DEPARTMENT OF THE INTERIOR

Bureau of Land Management

[LLWO2100000 L11100000.DR0000.LXSISGST0000]

Notice of Availability of the Record of Decision and Approved Resource Management Plan Amendments for the Great Basin Region Greater Sage-Grouse Sub-Regions of Idaho and Southwestern Montana; Nevada and Northeastern California; Oregon; and Utah

AGENCY: Bureau of Land Management, Interior.

ACTION: Notice of availability.

SUMMARY: The Bureau of Land Management (BLM) announces the availability of the Record of Decision (ROD) and Approved Resource Management Plan Amendments (ARMPAs) for the Great Basin Region Greater Sage-Grouse (GRSG) sub-regions of Idaho and Southwestern Montana, Nevada and Northeastern California, Oregon, and Utah. The Assistant Secretary for Land and Minerals Management of the U.S. Department of the Interior signed the ROD.

ADDRESSES: Copies of the ROD and ARMPAs are available upon request and are also available for public inspection at the addresses listed in the SUPPLEMENTARY INFORMATION section. Interested persons may also review the ROD and ARMPAs on the internet at http://www.blm.gov/wo/st/en/prog/more/sagegrouse.html.

FOR FURTHER INFORMATION CONTACT: For the Idaho and Southwestern Montana GRSG ARMPA: Jonathan Beck, BLM Idaho State Office GRSG Planning Lead, telephone 208-373-4070; address 1387 South Vinnell Way, Boise ID 83709; email jmbeck@blm.gov.

For the Nevada and Northeastern California GRSG ARMPA: Lauren Mermejo, BLM Nevada State Office GRSG Project Lead, telephone 775-861-6580; address 1340 Financial Boulevard, Reno NV, 89502; email lmermejo@blm.gov.

For the Oregon GRSG ARMPA: Joan Suther, BLM Oregon/Washington State Office GRSG Planning Lead, telephone 541-573-4445; address BLM Burns District, 28910 Hwy 20 West, Hines, OR, 97738; email jsuther@blm.gov.

For the Utah GRSG ARMPA: Quincy Bahr, BLM Utah State Office GRSG Project Lead, telephone 801-539-4122; address 440 West 200 South, Suite 500, Salt Lake City, UT 84101-1345; email qfbahr@blm.gov.

Persons who use a telecommunications device for the deaf (TDD) may call the Federal Information Relay Service (FIRS) at 1-800-877-8339 to contact the above individuals during normal business hours. The FIRS is available 24 hours a day, 7 days a week, to leave a message or question with the above individual. You will receive a reply during normal business hours.

SUPPLEMENTARY INFORMATION: This ROD and the ARMPAs for the Great Basin Region GRSG sub-regions of Idaho and Southwestern Montana, Nevada and Northeastern California, Oregon, and Utah were developed through a collaborative planning process in order to incorporate land use plan level measures into existing BLM land use plans to protect, enhance, and restore GRSG and their habitat by reducing, eliminating, or minimizing threats to GRSG habitat in the context of the BLM's multiple-use and sustained yield mission under FLPMA.

The ARMPAs approved by the ROD include land use allocations that limit or eliminate new surface disturbance in GRSG Priority Habitat Management Areas (PHMA), while minimizing disturbance in GRSG General Habitat Management Areas (GHMA). The Idaho and Southwestern Montana ARMPA also includes Important Habitat Management Areas (IHMA) in Idaho, where management provides a buffer for PHMAs and connects patches of PHMAs. IHMAs encompass areas of generally moderate to high value habitat and/or populations, but that are not as important as PHMAs. The Nevada and Northeastern California ARMPA also includes Other Habitat Management Areas (OHMA), which is unmapped habitat that contains seasonal or connectivity habitat areas. BLM management of these areas is limited to the application of required design features (RDFs) for certain authorizations when applicable.

In addition to establishing protective land use allocations, the ARMPAs implement a suite of management decisions, such as the establishment of disturbance limits, GRSG habitat objectives, mitigation requirements, monitoring protocols, and adaptive management triggers and responses, as well as other conservation measures throughout the range.

The cumulative effect of these measures is to protect, improve, and restore GRSG habitat across the remaining range of the species in the Great Basin and provide greater certainty that BLM land and resource management activities in GRSG habitat will lead to conservation of the GRSG and other species associated with the sagebrush ecosystem in the region.

The ARMPAs approved by the ROD amend the following BLM Resource Management Plans (RMPs) and Management Framework Plans (MFPs), completed in the year indicated:

California

• Alturas RMP (2008)

• Eagle Lake RMP (2008)

• Surprise RMP (2008)

Idaho

• Bennett Hills/Timmerman Hills MFP (1980)

• Big Desert MFP (1981)

• Big Lost MFP (1983)

• Bruneau MFP (1983)

• Cassia RMP (1985)

• Cascade RMP (1988)

• Challis RMP (1999)

• Craters of the Moon National Monument RMP (2006)

• Kuna (1983)

• Jarbidge RMP (2015)

• Lemhi RMP (1987)

• Little Lost-Birch Creek MFP (1981)

• Magic MFP (1975)

• Monument RMP (1985)

• Medicine Lodge RMP (1985)

• Owyhee RMP (1999)

• Pocatello RMP (2012)

• Snake River Birds of Prey National Conservation Area RMP (2008)

• Sun Valley MFP (1981)

• Twin Falls MFP (1982)

Montana

• Dillon RMP (2006)

Nevada

• Black Rock Desert-High Rock Canyon NCA RMP (2004)

• Carson City Consolidated RMP (2001)

• Elko RMP (1987)

• Ely RMP (2008)

• Shoshone-Eureka RMP (1986)

• Tonopah RMP (1997)

• Wells RMP (1985)

• Winnemucca RMP (2015)

Oregon

• Andrews RMP (2005)

• Baker RMP (1989)

• Brothers-LaPine RMP (1989)

• Lakeview RMP (2003)

• Southeastern Oregon RMP (2003)

• Steens RMP (2005)

• Three Rivers RMP (1992)

• Upper Deschutes RMP (2005)

Utah

• Box Elder RMP (1986)

• Cedar/Beaver/Garfield/Antimony RMP (1986)

• Grand Staircase-Escalante National Monument Management Plan (2000)

• House Range RMP (1987)

• Kanab RMP (2008)

• Park City MFP (1975)

• Pinyon MFP (1978)

• Pony Express RMP (1990)

• Price RMP (2008)

• Randolph MFP (1980)

• Richfield RMP (2008)

• Salt Lake District Isolated Tracts Planning Analysis (1985)

• Vernal RMP (2008)

• Warm Springs RMP (1987)

The Idaho and Southwestern Montana, Nevada and Northeastern California, and Utah Draft Land Use Plan Amendments (LUPAs)/Draft Environmental Impact Statements (EISs) and Proposed LUPAs/Final EISs included proposed GRSG management direction for National Forest System lands. However, the U.S. Forest Service (USFS) has completed a separate ROD and Land and Resource Management Plans under USFS planning authorities. Management decisions within the ROD and ARMPAs apply only to BLM-administered lands.

Across all four sub-regions in the Great Basin Region, the ROD and ARMPAs amend existing land use plan decisions on a total of approximately 90 million BLM-administered surface acres.

A Notice of Availability (NOA) for the Great Basin Region GRSG Proposed LUPAs and Final EISs for the Idaho and Southwestern Montana, Nevada and Northeastern California, Oregon, and Utah sub-regions was published in the Federal Register on May 29, 2015, which initiated a 30-day protest period and a 60-day Governor's consistency review period.

The BLM received 133 timely and valid protest submissions across all four Great Basin Proposed LUPAs/Final EISs. All protests have been resolved and/or dismissed. For a full description of the issues raised during the protest period and how they were addressed, please refer to the Director's Protest Resolution Reports for all four ARMPAs, which are available at the following Web site: http://www.blm.gov/wo/st/en/prog/planning/planning_overview/protest_resolution/protestreports.html.

The BLM received notifications of inconsistencies and recommendations as to how to resolve them during the Governor's consistency review period from the States of Idaho, Montana, Nevada, Oregon, and Utah. The BLM also received a concurrence letter of consistency from the State of California. On August 6, 2015, the BLM State Directors for Idaho, Montana, Nevada, Oregon, and Utah sent notification letters to their respective States as to whether they accepted or rejected their recommendations for consistency. The States were then given thirty days to appeal the State Directors' decisions. The States of Idaho, Nevada, and Utah appealed the BLM State Directors' decisions. The BLM Director affirmed the State Directors' decisions on these recommendations as the recommendations did not provide the balance required by 43 CFR 1610.3-2(e). The Director communicated his decisions on the appeals in writing to the Governors concurrently with the release of the RODS.

The Proposed LUPAs/Final EISs were selected in the ROD as the ARMPAs, with some minor modifications and clarifications based on protests received, the Governors' consistency reviews, and internal agency deliberations.

Copies of the Idaho and Southwestern Montana GRSG ROD and ARMPA are available upon request and are available for public inspection at:

• BLM Idaho State Office, 1387 S. Vinnell Way, Boise ID 83709;

• BLM Boise District Office, 3948 Development Avenue, Boise, ID 83705;

• BLM Owyhee Field Office, 20 First Avenue West, Marsing, ID 83639;

• BLM Idaho Falls District Office, 1405 Hollipark Drive, Idaho Falls, ID 83401;

• BLM Salmon Field Office, 1206 South Challis Street, Salmon, ID 83467;

• BLM Challis Field Office, 1151 Blue Mountain Road, Challis, ID 83226;

• BLM Pocatello Field Office, 4350 Cliffs Drive, Pocatello, ID 83204;

• BLM Twin Falls District Office, 2536 Kimberly Road, Twin Falls, ID 83301;

• BLM Shoshone Field Office, 400 West F Street, Shoshone, ID 83352;

• BLM Burley Field Office, 15 East 200 South, Burley, ID 83318;

• BLM Coeur d'Alene District Office, 3815 Schreiber Way, Coeur d'Alene, ID 83815;

• BLM Cottonwood Field Office, 1 Butte Drive, Cottonwood, ID 83522;

• BLM Montana State Office, 5001 Southgate Drive, Billings, MT 59101;

• BLM Butte District Office, 106 North Parkmont, Butte, MT 59701; and

• BLM Dillon Field Office, 1005 Selway Drive, Dillon, MT 59725-9431.

Copies of the Nevada and Northeastern California GRSG ROD and ARMPA are available upon request and are available for public inspection at:

• BLM Nevada State Office, 1340 Financial Boulevard, Reno, NV, 89502;

• BLM Winnemucca District Office, 5100 E. Winnemucca Boulevard, Winnemucca, NV, 89445;

• BLM Ely District Office, 702 North Industrial Way, Ely, NV, 89301;

• BLM Elko District Office, 3900 E. Idaho Street, Elko, NV, 89801;

• BLM Carson City District Office, 5665 Morgan Mill Road, Carson City, NV, 89701;

• BLM Battle Mountain District Office, 50 Bastian Road, Battle Mountain, NV, 89820;

• BLM California State Office, 2800 Cottage Way, Suite W-1623, Sacramento, CA, 95825;

• BLM Alturas Field Office, 708 W. 12th Street, Alturas, CA, 96101;

• BLM Eagle Lake Field Office, 2950 Riverside Drive, Susanville, CA, 96130; and

• BLM Surprise Field Office, 602 Cressler Street, Cedarville, CA, 96104.

Copies of the Oregon GRSG ROD and ARMPA are available upon request and are available for public inspection at:

• BLM Oregon State Office, 1220 SW. 3rd Avenue, Portland, OR 97204;

• BLM Baker Resource Area Office, 3100 H Street, Baker City, OR 97814;

• BLM Burns District Office, 28910 Highway 20 West, Hines, OR 97738;

• BLM Lakeview District Office, 1301 S. G Street, Lakeview, OR 97630;

• BLM Prineville District Office, 3050 NE. 3rd Street, Prineville, OR 97754; and

• BLM Vale District Office, 100 Oregon Street, Vale, OR 97918.

Copies of the Utah GRSG ROD and ARMPA are available upon request and are available for public inspection at:

• BLM Utah State Office, 440 West 200 South, Suite 500, Salt Lake City, UT, 84101;

• BLM Cedar City Field Office, 176 East D.L. Sargent Drive, Cedar City, UT 84721;

• BLM Fillmore Field Office, 95 East 500 North, Fillmore, UT 84631;

• BLM Kanab Field Office and Grand Staircase-Escalante National Monument, 669 South Highway 89A, Kanab, UT 84741;

• BLM Price Field Office, 125 South 600 West, Price, UT 84501;

• BLM Richfield Field Office, 150 East 900 North, Richfield, UT 84701;

• BLM Salt Lake Field Office, 2370 S. Decker Lake Boulevard, West Valley City, UT 84119; and

• BLM Vernal Field Office, 170 South 500 East, Vernal, UT 84078.

Authority: 36 CFR 219.59, 40 CFR 1506.6, 40 CFR 1506.10, 43 CFR 1610.2; 43 CFR 1610.5.

Amy Lueders,
Acting Assistant Director, Renewable Resources & Planning.

[FR Doc. 2015-24213 Filed 9-22-15; 4:15 pm]

BILLING CODE 4310-22-P